DEPARTMENT OF ENERGY

Federal Energy Regulatory Commission

Combined Notice of Filings

Take notice that the Commission has received the following Natural Gas Pipeline Rate and Refund Report filings:

Filings Instituting Proceedings

Docket Numbers: RP18-741-001.

Applicants: Saltville Gas Storage Company L.L.C.

Description: Compliance filing Reservation Charge Crediting Language—Compliance Filing to be effective 12/1/2018.

Filed Date: 6/25/18.

Accession Number: 20180625-5058.

Comments Due: 5 p.m. ET 7/9/18.

Docket Numbers: RP18-904-000.

Applicants: Gulf South Pipeline Company, LP.

Description: § 4(d) Rate Filing: Remove Expired Agreements to be effective 7/1/2018.

Filed Date: 6/25/18.

Accession Number: 20180625-5042.

Comments Due: 5 p.m. ET 7/9/18.

Docket Numbers: RP18-905-000.

Applicants: Big Sandy Pipeline, LLC.

Description: § 4(d) Rate Filing: Big Sandy EPC 2018 to be effective 8/1/2018.

Filed Date: 6/25/18.

Accession Number: 20180625-5175.

Comments Due: 5 p.m. ET 7/9/18.

Docket Numbers: RP18-906-000.

Applicants: Mississippi Canyon Gas Pipeline, L.L.C.

Description: § 4(d) Rate Filing: FT2 and RCA tariff modifications to be effective 8/1/2018.

Filed Date: 6/26/18.

Accession Number: 20180626-5028.

Comments Due: 5 p.m. ET 7/9/18.

Docket Numbers: RP18-907-000.

Applicants: Texas Eastern Transmission, LP.

Description: § 4(d) Rate Filing: Negotiated Rate—Infinite Energy 911508 eff 6.27.18 to be effective 6/27/2018.

Filed Date: 6/26/18.

Accession Number: 20180626-5141.

Comments Due: 5 p.m. ET 7/9/18.

Docket Numbers: RP18-908-000.

Applicants: Tallgrass Interstate Gas Transmission, L.

Description: § 4(d) Rate Filing: Neg Rate 2018-6-26 Preferred Sands, Valero to be effective 6/26/2018.

Filed Date: 6/26/18.

Accession Number: 20180626-5182.

Comments Due: 5 p.m. ET 7/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2018.
Kimberly D. Bose,
Secretary.

[FR Doc. 2018-14343 Filed 7-3-18; 8:45 am]

BILLING CODE 6717-01-P